DEPARTMENT OF VETERANS AFFAIRS

38 CFR Part 21

RIN 2900-AM12

Veterans' Education: Transfer of Montgomery GI Bill-Active Duty Entitlement to Dependents; Correction

AGENCY: Department of Veterans Affairs.

ACTION: Correcting amendment.

SUMMARY: The Department of Veterans Affairs (VA) published a document in the Federal Register on December 18, 2006 (71 FR 75672), implementing VA's authority under the National Defense Authorization Act for Fiscal Year 2002 and the Bob Stump National Defense Authorization Act for Fiscal Year 2003 to provide educational assistance to dependents eligible for transferred Montgomery GI Bill—Active Duty (MGIB) entitlement. In that document, we assigned the wrong paragraph designations to three paragraphs in § 21.7136(d)(6). This document corrects that error.

DATES: Effective Date: April 18, 2007. Applicability Date: December 18, 2006.

FOR FURTHER INFORMATION CONTACT: Devon E. Seibert, Management and Program Analyst, Education Service, Veterans Benefits Administration, Department of Veterans Affairs (225C), 810 Vermont Avenue, NW., Washington, DC 20420, (202) 273-9677. (This is not a toll-free telephone number.)

SUPPLEMENTARY INFORMATION: The VA published a document in the Federal Register on December 18, 2006, 72 FR 75672, revising its education regulations to implement VA's authority under the National Defense Authorization Act for Fiscal Year 2002 and the Bob Stump National Defense Authorization Act for Fiscal Year 2003 to provide educational assistance to dependents eligible for transferred Montgomery GI Bill-Active Duty entitlement. In that document, we assigned the wrong paragraph designations for three paragraphs in § 21.7136(d)(6). This document corrects that error by redesignating paragraphs (d)(6)(v) through (d)(6)(vii) as paragraphs (d)(6)(i) through (d)(6)((iii), respectively.

List of Subjects in 38 CFR Part 21

Administrative practice and procedure, Armed forces, Civil rights, Claims, Colleges and universities, Conflicts of interest, Education, Employment, Grant programs-education, Grant programs-veterans, Health care, Loan programs-education, Loan programs-veterans, Manpower training programs, Reporting and recordkeeping requirements, Schools, Travel and transportation expenses, Veterans, Vocational education, Vocational rehabilitation.

Approved: April 12, 2007.
William F. Russo,
Director of Regulations Management.

For the reasons set out in the preamble, VA is correcting 38 CFR part 21 (subpart K) as set forth below:

PART 21—VOCATIONAL REHABILITATION AND EDUCATION

Subpart K—All Volunteer Force Educational Assistance Program (Montgomery GI Bill—Active Duty)

1. The authority citation for part 21, subpart K continues to read as follows:

Authority: 38 U.S.C. 501(a), chs. 30, 36, unless otherwise noted.

2. Amend § 21.7136 by redesignating paragraphs (d)(6)(v) through (d)(6)(vii) as (d)(6)(i) through (d)(6)(iii), respectively.

[FR Doc. E7-7338 Filed 4-17-07; 8:45 am]

BILLING CODE 8320-01-P